DEPARTMENT OF HEALTH AND HUMAN SERVICES

National Institutes of Health

National Heart, Lung, and Blood Institute; Amended Notice of Meeting

Notice is hereby given of a change in the meeting of the National Heart, Lung, and Blood Advisory Council, which was published in the Federal Register on February 11, 2019, 84 FR 01884.

This notice is amended to update the times of the meeting.

Name of Committee: National Heart, Lung, and Blood Advisory Council.

Date: September 10, 2019.

Open: 8:00 a.m. to 10:00 a.m.

Open: 11:30 a.m. to 2:30 p.m.

Open: 4:00 p.m. to 5:15 p.m.

Agenda: To discuss program policies and issues.

Place: National Institutes of Health, Building 35A, Porter Building, Room 640, 35A Convent Drive, Bethesda, MD 20892.

The meeting is open to the public.

Dated: August 27, 2019.
Ronald J. Livingston, Jr.,
Program Analyst, Office of Federal Advisory Committee Policy.

[FR Doc. 2019-18897 Filed 8-30-19; 8:45 am]

BILLING CODE 4140-01-P